DEPARTMENT OF AGRICULTURE

Federal Crop Insurance Corporation

7 CFR Parts 400, 401, 403, 405, 406, 409, 414, 415, 416, 422, 425, 430, 433, 435, 437, 441, 443, 445, 446, 447, 450, 451, 454, 455, 456, and 458

Crop Insurance Regulations, Removal of Miscellaneous Provisions

AGENCY: Federal Crop Insurance Corporation, USDA.

ACTION: Final rule.

SUMMARY: The Federal Crop Insurance Corporation (FCIC) is removing various outdated provisions in 7 CFR chapter IV that are no longer required in the administration of the Federal crop insurance program.

EFFECTIVE DATE: May 6, 2002.

FOR FURTHER INFORMATION CONTACT: Louise Narber, Insurance Management Specialist, Product Development Division, Federal Crop Insurance Corporation, 6501 Beacon Drive, Stop 0812, Room 421, Kansas City, MO, 64133-4676, telephone (816) 926-7730.

SUPPLEMENTARY INFORMATION:

Executive Order 12866

This rule has been determined to be exempt for the purposes of Executive Order 12866 and, therefore, has not been reviewed by the Office of Management and Budget (OMB).

Paperwork Reduction Act of 1995

This rule does not contain information collection requirements that would require approval by OMB under the Paperwork Reduction Act of 1995 (44 U.S.C. chapter 35).

Unfunded Mandates Reform Act of 1995

Title II of the Unfunded Mandates Reform Act of 1995 (UMRA) establishes requirements for Federal agencies to assess the effects of their regulatory actions on State, local, and tribal governments or the private sector. This rule contains no Federal mandates (under the regulatory provisions of title II of the UMRA) for State, local, and tribal governments or the private sector. Therefore, this rule is not subject to the requirements of sections 202 and 205 of the UMRA.

Executive Order 13132

The rule will not have a substantial direct effect on states, on the relationship between the national government and the states, or on the distribution of power and responsibilities among the various levels of government. Nor does this rule impose substantial direct compliance costs on state and local governments. Therefore, consultation with the states is not required.

Regulatory Flexibility Act

This regulation will not have a significant economic impact on a substantial number of small entities. No additional work is required as a result of this action on the part of either the insured or the insurance companies. Additionally, the regulation does not require any action on the part of small entities than is required on the part of large entities. Therefore, this action is determined to be exempt from the provisions of the Regulatory Flexibility Act (5 U.S.C. 605), and no Regulatory Flexibility Analysis was prepared.

Federal Assistance Program

This program is listed in the Catalog of Federal Domestic Assistance under No. 10.450.

Executive Order 12372

This program is not subject to the provisions of Executive Order 12372 which require intergovernmental consultation with State and local officials. See the Notice related to 7 CFR part 3015, subpart V, published at 48 FR 29115, June 24, 1983.

Executive Order 12988

This rule has been reviewed in accordance with Executive Order 12988 on civil justice reform. The provisions of this rule will not have a retroactive effect. The provisions of this rule will preempt State and local laws to the extent such State and local laws are inconsistent herewith. The administrative appeal provisions published at 7 CFR part 11 or 7 CFR 400.169, as applicable, must be exhausted before any action for judicial review of any determination or action by FCIC may be brought.

Environmental Evaluation

This action is not expected to have a significant impact on the quality of the human environment, health, and safety. Therefore, neither an Environmental Assessment nor an Environmental Impact Statement is needed.

Background

FCIC has reviewed its regulations published at 7 CFR chapter IV and determined that the provisions for the late planting agreement option, published at 7 CFR part 400, subpart A are no longer applicable because the crops for which this option was available are now all covered under 7 CFR part 457 and the late planting provisions are incorporated into the policy. The administrative provisions relating to individual yield coverage plans, published at 7 CFR part 400, subpart B are no longer necessary because FCIC utilizes the actual production history of producers to determine guarantees and those provisions are published at 7 CFR part 400, subpart G. Further, the provisions relating to applications, published at 7 CFR part 400, subpart D, are best placed in procedures to allow the maximum flexibility for private insurance companies. The administrative provisions relating to the 1988 disaster program published at 7 CFR part 400, subpart N, are no longer applicable. Section 400.656 at 7 CFR part 400, subpart T, is no longer applicable because these prevented planting provisions are included in 7 CFR part 457. Additionally, § 400.657 at 7 CFR part 400, subpart T, is not applicable because it was effective for the 1995-1997 crop years. FCIC is also removing crop insurance contract provisions in 7 CFR part 401 because insurance for those crops are now available under the crop insurance contract provisions published at 7 CFR part 457.

Since the purpose of this rule is simply to remove those provisions that are no longer necessary in the administration of the Federal crop insurance program, this rule is considered a rule of agency practice or procedure. Therefore, under section 553(b) of the Administrative Procedures Act, this rule does not need to be published for notice and comment.

List of Subjects in 7 CFR Parts 400, 401, 403, 405, 406, 409, 414, 415, 416, 422, 425, 430, 433, 435, 437, 441, 443, 445, 446, 447, 450, 451, 454, 455, 456, and 458

Crop Insurance.

Final Rule

Accordingly, under the authority of 7 U.S.C. 1506 (l), 1506(p), the Federal Crop Insurance Corporation hereby amends 7 CFR chapter IV as follows:

PART 400—GENERAL ADMINISTRATIVE REGULATIONS

1. The authority citation for part 400 continues to read as follows:

Authority: 7 U.S.C. 1506(l), 1506(p).

Subparts A, B, D, and N—[Removed and Reserved]

2. In part 400, remove and reserve Subparts A, B, D, and N.

Subpart T—[Amended]

3. In part 400, remove and reserve §§ 400.656 and 400.657.

PART 401—[Removed and Reserved]

4. Part 401 is removed and reserved.

PART 403—[Removed and Reserved]

5. Part 403 is removed and reserved.

PART 405—[Removed and Reserved]

6. Part 405 is removed and reserved.

PART 406—[Removed and Reserved]

7. Part 406 is removed and reserved.

PART 409—[Removed and Reserved]

8. Part 409 is removed and reserved.

PART 414—[Removed and Reserved]

9. Part 414 is removed and reserved.

PART 415—[Removed and Reserved]

10. Part 415 is removed and reserved.

PART 416—[Removed and Reserved]

11. Part 416 is removed and reserved.

PART 422—[Removed and Reserved]

12. Part 422 is removed and reserved.

PART 425—[Removed and Reserved]

13. Part 425 is removed and reserved.

PART 430—[Removed and Reserved]

14. Part 430 is removed and reserved.

PART 433—[Removed and Reserved]

15. Part 433 is removed and reserved.

PART 435—[Removed and Reserved]

16. Part 435 is removed and reserved.

PART 437—[Removed and Reserved]

17. Part 437 is removed and reserved.

PART 441—[Removed and Reserved]

18. Part 441 is removed and reserved.

PART 443—[Removed and Reserved]

19. Part 443 is removed and reserved.

PART 445—[Removed and Reserved]

20. Part 445 is removed and reserved.

PART 446—[Removed and Reserved]

21. Part 446 is removed and reserved.

PART 447—[Removed and Reserved]

22. Part 447 is removed and reserved.

PART 450—[Removed and Reserved]

23. Part 450 is removed and reserved.

PART 451—[Removed and Reserved]

24. Part 451 is removed and reserved.

PART 454—[Removed and Reserved]

25. Part 454 is removed and reserved.

PART 455—[Removed and Reserved]

26. Part 455 is removed and reserved.

PART 456—[Removed and Reserved]

27. Part 456 is removed and reserved.

PART 458—[Removed and Reserved]

28. Part 458 is removed and reserved.

Signed in Washington, DC, on March 14, 2002.
Ross J. Davidson, Jr.,
Manager, Federal Crop Insurance Corporation.

[FR Doc. 02-6887 Filed 4-4-02; 8:45 am]

BILLING CODE 3410-08-P